DEPARTMENT OF THE INTERIOR

Bureau of Indian Affairs

[267A2100DD/AAKC001030/A0A501010.000000]

Indian Gaming; Approval by Operation of Law of the Tribal-State Compact Amendment Between the Catawba Nation and the State of North Carolina

AGENCY: Bureau of Indian Affairs, Interior.

ACTION: Notice.

SUMMARY: This notice publishes the approval by operation of law of the Agreement to Amend Tribal-State Compact between the Catawba Indian Nation and the State of North Carolina governing the operation and regulation of class III gaming activities.

DATES: The amendment takes effect on December 15, 2025.

FOR FURTHER INFORMATION CONTACT: Mr. Troy M. Woodward, Acting Director, Office of Indian Gaming, Office of the Assistant Secretary—Indian Affairs, Washington, DC 20240, IndianGaming@bia.gov; (202) 219-4066.

SUPPLEMENTARY INFORMATION: Under section 11 of the Indian Gaming Regulatory Act (IGRA), Public Law 100-497, 25 U.S.C. 2701 et seq., the Secretary of the Interior (Secretary) shall publish in the Federal Register notice of approved tribal-state compacts for the purpose of engaging in class III gaming activities on Indian lands. As required by 25 CFR 293.4, all compacts and amendments are subject to review and approval by the Secretary. The Amendment removes a restriction in the Compact which requires the Catawba Indian Nation to use a particular gaming testing company for the testing of gaming machines as defined in the Compact. The Secretary took no action on the Agreement to Amend Tribal-State Compact between the Catawba Indian Nation and the State of North Carolina governing the operation and regulation of class III gaming activities. Therefore, the amendment is considered to have been approved, but only to the extent it is consistent with IGRA. See 25 U.S.C. 2710(d)(8)(C).

William Henry Kirkland, III,
Assistant Secretary—Indian Affairs.

[FR Doc. 2025-22803 Filed 12-12-25; 8:45 am]

BILLING CODE 4337-15-P